DEPARTMENT OF THE INTERIOR

National Park Service

[NPS-WASO-D-COS-POL-25829: PPWODIREP0][PPMPSPD1Y.YM0000]

“Made in America” Outdoor Recreation Advisory Committee Notice of Public Meeting

AGENCY: National Park Service, Interior.

ACTION: Meeting notice.

SUMMARY: Notice is hereby given in accordance with the Federal Advisory Committee Act of 1972 (5 U.S.C. Appendix 1-16) of the first meeting of the “Made in America” Outdoor Recreation Advisory Committee (Committee).

DATES: The meeting will be held on Tuesday, July 17, 2018, in Washington, DC, from 9:30 a.m. to 4:00 p.m. (EASTERN).

ADDRESSES: The meeting will be held in the South Penthouse of the Stewart Lee Udall Department of the Interior Building located at 1849 C Street NW, Washington, DC 20240.

FOR FURTHER INFORMATION CONTACT: Alma Ripps, Designated Federal Officer, Office of Policy, National Park Service, telephone 202-354-3950, or email alma_ripps@nps.gov.

SUPPLEMENTARY INFORMATION: The Committee was established on March 13, 2018, by authority of the Secretary of the Interior (Secretary) under 54 U.S.C. 100906, and is regulated by the Federal Advisory Committee Act. The Committee's duties are strictly advisory and include, but are not limited to, providing recommendations to the Secretary on policies and programs that: Expand and improve visitor infrastructure developed through public-private partnerships across all public lands; implement sustainable operations embracing fair, efficient, and convenient fee collection and strategic use of the collected fees; improve interpretation using technology; and create better tools and/or opportunities for Americans to discover their lands and waters. The Committee will also provide recommendations for implementation of Secretarial Order No. 3347: Conservation Stewardship and Outdoor Recreation, and other areas as requested by the Secretary.

Purpose of the Meeting: The purpose of the meeting is to discuss the following topics:

• Welcome and Introductions

• Election of Chair

• Trail Systems

• State Partnerships

• Concessions

• Broadband and Infrastructure

• Campgrounds of the Future

• Public Comment Period

The meeting is open to the public, but preregistration is required due to security requirements in the building and limited seating. Any individual who wishes to attend the meeting should register via email at shirley_sears@nps.gov or telephone 202-354-3955. Interested persons may choose to make a public comment at the meeting during the designated time for this purpose. Members of the public may also choose to submit written comments by mailing them to Alma Ripps, Designated Federal Officer, Office of Policy, National Park Service, 1849 C Street NW, MS 2659, Washington, DC 20240, or via email alma_ripps@nps.gov.

Public Disclosure of Comments: Before including your address, phone number, email address, or other personal identifying information in your comment, you should be aware that your entire comment—including your personal identifying information—may be made publicly available at any time. While you may ask us in your comment to withhold your personal identifying information from public review, we cannot guarantee that we will be able to do so.

Detailed minutes of the meeting will be available for public inspection within 90 days of the meeting from the Office of Policy, National Park Service, 1849 C Street NW, Room 2659, Washington, DC 20240.

Authority: 5 U.S.C. Appendix 2.

Alma Ripps
Chief, Office of Policy.

[FR Doc. 2018-14072 Filed 6-28-18; 8:45 am]

BILLING CODE 4312-52-P